DEPARTMENT OF JUSTICE

Antitrust Division

Notice Pursuant to the National Cooperative Research and Production Act of 1993—ODVA, Inc.

Notice is hereby given that, on January 4, 2022, pursuant to Section 6(a) of the National Cooperative Research and Production Act of 1993, 15 U.S.C. 4301 et seq. (“the Act”), ODVA, Inc. (“ODVA”) has filed written notifications simultaneously with the Attorney General and the Federal Trade Commission disclosing changes in its membership. The notifications were filed for the purpose of extending the Act's provisions limiting the recovery of antitrust plaintiffs to actual damages under specified circumstances. Specifically, Asyril SA, Villaz-St-Pierre, SWITZERLAND; Guangdong OPT Technology Co., Ltd., Dongguan, PEOPLE'S REPUBLIC OF CHINA; Roboteq, Inc., Scottsdale, AZ; Uson L.P., Houston, TX; and Shanghai JAKA Robotics Ltd., Shanghai, PEOPLE'S REPUBLIC OF CHINA, have been added as parties to this venture.

Also, Acuity Brands, Inc., Conyers, GA; Lanmark Controls Inc., Londonderry, NH; Tokyo Keiso Co., Ltd., Tokyo, JAPAN; Hangzhou Hikrobot Technology Co., Ltd., Hangzhou, PEOPLE'S REPUBLIC OF CHINA; Bayshore Networks, Inc., Durham, NC; and FACTS, Inc., Cuyahoga Falls, OH, have withdrawn as parties to this venture.

In addition, JANOME Corporation has changed its name to Janome Sewing Machine Co., Ltd., Tokyo, JAPAN; KEBA Industrial Automation GmbH to KEBA AG, Linz, AUSTRIA; and NTI AG to LinMot, Spreitenbach, SWITZERLAND.

No other changes have been made in either the membership or planned activity of the group research project. Membership in this group research project remains open, and ODVA intends to file additional written notifications disclosing all changes in membership.

On June 21, 1995, ODVA filed its original notification pursuant to Section 6(a) of the Act. The Department of Justice published a notice in the Federal Register pursuant to Section 6(b) of the Act on February 15, 1996 (61 FR 6039).

The last notification was filed with the Department on October 5, 2021. A notice was published in the Federal Register pursuant to Section 6(b) of the Act on October 22, 2021 (86 FR 58690).

Suzanne Morris,
Chief, Premerger and Division Statistics, Antitrust Division.

[FR Doc. 2022-00613 Filed 1-12-22; 8:45 am]

BILLING CODE 4410-11-P